DEPARTMENT OF HEALTH AND HUMAN SERVICES

Solicitation for Applications From Individuals Interested in Being Appointed to the Chronic Fatigue Syndrome Advisory Committee

AGENCY: Department of Health and Human Services, Office of the Secretary, Office of the Assistant Secretary for Health.

ACTION: Notice.

Authority: 42 U.S.C. 217a, section 222 of the Public Health Service (PHS) Act, as amended.

The Committee is governed by the provisions of Public Law 92-463, as amended (5 U.S.C. App 2), which sets forth standards for the formation and use of advisory committees.

SUMMARY: The Office of the Assistant Secretary for Health (OASH), within the Department of Health and Human Services (HHS), is seeking nominations of qualified candidates to be considered for appointment as a member of the Chronic Fatigue Syndrome Advisory Committee (CFSAC). CFSAC provides advice and recommendations to the Secretary of HHS, through the Assistant Secretary for Health (ASH), on a broad range of issues and topics related to myalgic encephalomyelitis/chronic fatigue syndrome (ME/CFS). The appointments of several Committee members are scheduled to end during the 2014 calendar year. Nominations of qualified candidates are being sought to fill the positions that are scheduled to be vacated.

DATES: Applications for individuals to be considered for appointment to the Committee must be received no later than 5 p.m. EDT on October 28, 2013 at the address listed below.

ADDRESSES: All nominations should be mailed or delivered to Martha Duncan Bond, Alternate Designated Federal Officer, Chronic Fatigue Syndrome Advisory Committee, Office on Women's Health, Office of the Assistant Secretary for Health, Department of Health and Human Services, 200 Independence Avenue SW., Room 719E, Washington, DC 20201. Nomination materials, including attachments, may be submitted electronically to cfsac@hhs.gov.

FOR FURTHER INFORMATION CONTACT: Martha Duncan Bond, Alternate Designated Federal Officer, Chronic Fatigue Syndrome Advisory Committee, Office on Women's Health, Office of the Assistant Secretary for Health, Department of Health and Human Services, 200 Independence Ave. SW., Room 719E, Washington, DC 20201. Inquiries may also be made to cfsac@hhs.gov.

SUPPLEMENTARY INFORMATION: CFSAC was established on September 5, 2002. The purpose of the CFSAC is to provide advice and recommendations to the Secretary of HHS, through the ASH, on issues related to ME/CFS. CFSAC advises and makes recommendations on a broad range of topics including: (1) The current state of knowledge and research; the relevant gaps in knowledge and research about the epidemiology, etiologies, biomarkers, and risk factors relating to ME/CFS; and potential opportunities in these areas; (2) impact and implications of current and proposed diagnostic and treatment methods for ME/CFS; (3) development and implementation of programs to inform the public, health care professionals, and the biomedical, academic, and research communities about ME/CFS advances; and (4) strategies to improve the quality of life of ME/CFS patients. Management and support services for Committee activities are provided by staff from the Office on Women's Health, which is a program office within the OASH. The CFSAC charter is available at http://www.hhs.gov/advcomcfs/charter/index.html.

Nominations: OASH is requesting nominations to fill CFSAC positions that are scheduled to be vacated during 2014. The Committee composition consists of seven scientists with demonstrated expertise in biomedical research applicable to ME/CFS, four individuals with demonstrated expertise in health care delivery, private health care services, insurance, or voluntary organizations concerned with the problems of individuals living with ME/CFS. The vacant positions are in the biomedical research, health care services, and delivery categories. Individuals selected for appointment to the Committee will serve as voting members. Individuals selected for appointment to the Committee can be invited to serve terms of up to four years. As Special Government Employees, committee members receive a stipend for attending Committee meetings. Committee members also are authorized to receive per diem and reimbursement for travel expenses incurred for conducting Committee business. To qualify for consideration of appointment to the Committee, an individual must possess demonstrated experience and knowledge in the designated fields or disciplines, as well as expert knowledge of the broad issues and topics pertinent to ME/CFS.

Nomination materials should be typewritten, 12-point type, and double-spaced. If mailed, please submit original documents. The nomination materials should be submitted (postmarked or received) no later than 5:00 p.m. EDT on the date specified under DATES. The following information must be part of the nomination package submitted for each individual being nominated: (1) A letter of nomination that clearly states the name and affiliation of the nominee, the basis for the nomination (i.e., specific attributes which qualify the nominee for service in this capacity), and a statement that the nominee is willing to serve as a member of the Committee; (2) the nominator's name, address, and daytime telephone number, and the home and/or work address, telephone number, and email address of the individual being nominated; and (3) a current copy of the nominee's curriculum vitae. Federal employees should not be nominated for consideration of appointment to this Committee. An individual may self-nominate.

Electronic submissions: Nomination materials, including attachments, may be submitted electronically to cfsac@hhs.gov.

Telephone and facsimile submissions cannot be accepted.

Regular, Express, or Overnight Mail: Written documents may be submitted to the following addressee only: Martha Duncan Bond, Alternate Designated Federal Officer, CFSAC, Office on Women's Health, Office of the Assistant Secretary for Health, Department of Health and Human Services, 200 Independence Ave. SW., Room 719E, Washington, DC 20201.

The Department makes every effort to ensure that the membership of Federal advisory committees is fairly balanced in terms of points of view represented and the committee's function. Every effort is made to ensure that a broad representation of geographic areas, females, ethnic and minority groups, and people with disabilities are given consideration for membership on Federal advisory committees. Appointment to this Committee shall be made without discrimination on the basis of age, race, ethnicity, gender, sexual orientation, disability, and cultural, religious, or socioeconomic status. Nominations must state that the nominee is willing to serve as a member of CFSAC and appears to have no conflict of interest that would preclude membership. Potential candidates are required to provide detailed information concerning such matters as financial holdings, consultancies, and research grants or contracts for an ethics analysis to be conducted to identify potential conflicts of interest.

Dated: September 12, 2013.
Nancy C. Lee,
Designated Federal Officer, Chronic Fatigue Syndrome Advisory Committee.

[FR Doc. 2013-23678 Filed 9-26-13; 8:45 am]

BILLING CODE 4150-42-P